DEPARTMENT OF THE INTERIOR

Bureau of Land Management

[AA-12466, AA-70148, AA-70149, AA-70150, AA-74549, AA-84417; AK-964-1410-KC-P]

Alaska Native Claims Selection

AGENCY: Bureau of Land Management, Interior.

ACTION: Notice of decision approving lands for conveyance.

SUMMARY: As required by 43 CFR 2650.7(d), notice is hereby given that an appealable decision approving the surface and subsurface estates in certain lands for conveyance pursuant to the Alaska Native Claims Settlement Act will be issued to Calista Corporation. The lands are in the vicinity of Lime Village, Stony River, Sleetmute, Red Devil, Crooked Creek, Aniak, Chuathbaluk, Russian Mission, and Goodnews Bay, Alaska, and are located in:

Seward Meridian, Alaska

T. 17 N., R. 35 W.,

Secs. 16 to 19, inclusive;

Secs. 20 and 21;

Secs. 28 to 33, inclusive.

Containing 6,383.48 acres.

T. 13 N., R. 36 W.,

Sec. 2;

Secs. 3 to 10, inclusive;

Secs. 16 to 21, inclusive.

Containing approximately 5,898 acres.

T. 22 N., R. 38 W.,

Secs. 1, 2, and 3;

Secs. 9 to 12, inclusive;

Secs. 15, 23, 26, and 27.

Containing 6,659 acres.

T. 20 N., R. 41 W.,

Secs. 35 and 36.

Containing 1,138.90 acres.

T. 17 N., R. 44 W.,

Secs. 4, 9, and 16;

Secs. 17 and 18.

Containing 3,193.75 acres.

T. 17 N., R. 45 W.,

Secs. 13, 14, and 15.

Containing approximately 1,920 acres.

T. 19 N., R. 49 W.,

Secs. 1, 2, and 3;

Secs. 10 to 14, inclusive;

Secs. 24 to 28, inclusive;

Secs. 33 to 36, inclusive.

Containing 10,841.34 acres.

T. 20 N., R. 55 W.,

Secs. 15, 16, and 17;

Secs. 20, 21, and 22:

Secs. 27 to 32, inclusive.

Containing 7,612.04 acres.

T. 9 N., R. 59 W.,

Secs. 19 to 22, inclusive;

Secs. 27 to 34, inclusive.

Containing approximately 7,672 acres.

T. 13 N., R. 59 W.,

Secs. 3, 4, 9, and 10;

Secs. 15, 16, 21, and 22;

Secs. 27 and 28.

Containing approximately 5,580 acres.

T. 8 N., R. 60 W.,

Secs. 1 to 4, inclusive;

Secs. 9 to 12, inclusive.

Containing approximately 5,120 acres.

T. 23 N., R. 64 W.,

Secs. 13 to 17, inclusive;

Sec. 20;

Secs. 29 to 32, inclusive;

Sec. 35.

Containing 6,993.04 acres.

T. 21 N., R. 65 W.,

secs. 3, 4, and 5.

Containing 1,920 acres.

T. 22 N., R. 65 W.,

Secs. 27, 28, and 29;

Secs. 32, 33, and 34.

Containing 3,840 acres.

T. 23 N., R. 65 W.,

Secs. 25 and 26;

Secs. 34, 35, and 36.

Containing 3,200 acres.

T. 10 S., R. 74 W.,

Secs. 10, 11, and 12;

Secs. 14, 15, and 22.

Containing approximately 3,840 acres.

Aggregating approximately 81,811 acres.

Notice of the decision will also be published four times in the Tundra Drums.

DATES: The time limits for filing an appeal are:

1. Any party claiming a property interest which is adversely affected by the decision shall have until July 20, 2009 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Charles Lovely,
Land Transfer Resolution Specialist, Branch of Adjudication II.

[FR Doc. E9-14396 Filed 6-18-09; 8:45 am]

BILLING CODE 4310-JA-P